DEPARTMENT OF TRANSPORTATION

Federal Motor Carrier Safety Administration

[Docket No. FMCSA-2014-0022]

National Hazardous Materials Route Registry

AGENCY: Federal Motor Carrier Safety Administration (FMCSA), Department of Transportation (DOT).

ACTION: Notice; current listing of designated and restricted routes for hazardous materials

SUMMARY: This notice provides the current National Hazardous Materials Route Registry (NHMRR), which is a listing, as reported by State and Tribal Government routing officials, of all designated and restricted road and highway routes for transportation of highway route controlled quantities (HRCQ) of Class 7 (radioactive) materials (RAM) (HRCQ/RAM) and non-radioactive hazardous materials (NRHMs) transportation. The listing in this notice supersedes the NHMRR published on July 14, 2014, and includes current route limitations and allowances, and information on State and Tribal Government routing agency contacts reported to FMCSA as of March 30, 2015. The notice also responds to comments received on the Agency's Notice and request for comment on this subject published on July 14, 2014.

DATES: Effective Date: April 29, 2015.

FOR FURTHER INFORMATION CONTACT: Ms. Roxane Oliver, (202) 366-0735, or Roxane.Oliver@dot.gov, Hazardous Materials Division, Office of Enforcement and Compliance, Federal Motor Carrier Safety Administration, 1200 New Jersey Ave. SE., Washington, DC 20590. Office hours are from 9 a.m. to 5 p.m., E.T., Monday through Friday, except for Federal holidays.

SUPPLEMENTARY INFORMATION:

Table of Contents

I. Electronic Access to the National Hazardous Materials Route Registry

II. Legal Basis for This Action

III. Background and Response to Comments

IV. About the Tables in the National Hazardous Materials Route Registry

V. Route Ordering Approach

VI. National Hazardous Materials Route Registry

I. Electronic Access to the National Hazardous Materials Route Registry

To find the most up-to-date listing of hazmat routes, you may access the NHMRR directly at: http://www.fmcsa.dot.gov/regulations/hazardous-materials/national-hazardous-materials-route-registry. This site is the source of information in this notice and displays Hazardous Materials (HM) route listings that reflect any changes made after the publication date of this notice.

II. Legal Basis for This Action

Section 5112 of 49 U.S.C. paragraphs (a)(2) and (b) permit States and Tribal Governments to designate and limit highway routes over which HM may be transported provided the State or Tribal Government complies with standards prescribed by the Secretary of Transportation (the Secretary) and meets publication requirements in section 5112(c). To establish standards under paragraph (b), the Secretary must consult with the States, and, under section 5112(c), coordinate with the States to publish periodically a list of currently effective HM highway routing designations and restrictions. Subpart C of 49 CFR part 397 sets out the procedural requirements States and Tribal Governments must follow to establish, maintain, or enforce routing designations for the transport of placardable quantities of NRHM. In Subpart D, § 397.103 sets out the requirements for designating preferred routes for HRCQ/RAM shipments as an alternative to, or in addition to Interstate System highways. For HRCQ/RAM shipments, a preferred route is defined as an Interstate Highway for which no alternative route is designated by the State; a route specifically designated by the State; or both. See § 397.103(b). For the definition of NHRM routes, see § 397.65 “routing designations.”

Under a delegation from the Secretary,¹ FMCSA has authority to implement 49 U.S.C. 5112 and 5125(c). Currently, 49 CFR 397.73 establishes public information and reporting requirements for NRHM,² by States or Tribal Governments who are required to furnish information regarding any new or changed routes to FMCSA within 60 days after establishment. Under 49 CFR 397.103, a State routing designation for HRCQ/RAM routes (preferred routes) as an alternative to, or in addition to an Interstate System highway is effective when the authorized routing agency provides FMCSA with written notification, FMCSA acknowledges receipt in writing, and the route is published in FMCSA's National Hazardous Material Route Registry. FMCSA's regulations in 49 CFR part 397 also include other standards and procedures that States and Tribal Governments must follow to establish, maintain, and enforce designations specifying road and highway routes within their jurisdictions over which HRCQ/RAM and NRHM may or may not be transported, and to impose limitations or requirements for transporting these materials over applicable roads and highways. The Office of Management and Budget (OMB) has approved these collections of information under control number 2126-0014, Transportation of Hazardous Materials, Highway Routing.

¹ 49 CFR 1.87(d)(2).

² 49 CFR 397.65 defines NRHM as, “A non-radioactive hazardous material transported by motor vehicle in types and quantities which require placarding, pursuant to Table 1 or 2 of 49 CFR 172.504.”

III. Background and Response to Comments

In 49 CFR part 172, the Pipeline and Hazardous Materials Safety Administration (PHMSA) publishes a list of proper shipping names with corresponding identification numbers for HM that must be used when offering for transportation, or transporting any chemical or product that is a HM, hazardous substance or hazardous waste, as defined in 49 CFR 171.8. PHMSA lists HM in nine Classes, based on the type of substance and hazard, and determines the quantities that require a placard on the vehicle (e.g., truck, railroad car) transporting the substance so that emergency responders can identify the hazard at a distance.

State and Tribal Governments may designate routes for transporting these HM. The States and Tribal Governments may also establish limitations for the use of routes under section 5112 by using the required procedures specified in 49 CFR part 397. Carriers must develop written route plans for transporting HRCQ/RAM, and adhere to the written route plan [§§ 397.71 and 397.101(d)].

The NHMRR provides publicly accessible information concerning designated routes, which are mandatory assigned routes for transporting HM shipments and restricted routes over which such shipments may not be transported. FMCSA last published the NHMRR on July 14, 2014 (79 FR 40844). That listing reflected the Agency's validation through publicly available information of route designations and limitations, using as the starting point a 2008 spreadsheet developed to address requirements of the Implementing Recommendations of the 9/11 Commission Act of 2007. While validating HM route entries, FMCSA identified other information that could either enhance the NHMRR or correct identified issues. (For detailed information, see the July 2014 Federal Register document.) The July 2014 notice also sought comment on a new approach to ordering the routes and presenting the listings table.

Response to Comments

The Agency received five comments on the notice. Two industry organizations the American Trucking Associations (ATA) and the Institute of Makers of Explosives (IME) endorsed the new route order approach and content listing. ATA commended FMCSA for updating the routes with a “user-friendly planning tool.” However, ATA encouraged FMCSA to update the NHMRR process to implement the requirements of section 33013 of the Moving Forward for Progress in the 21st Century Act of 2012 (MAP-21) concerning establishing the form, manner, and timetable for State and Tribal Governments to issue and update HM route information. ATA asserted that until FMCSA updates the route registry process, States could not change HM routes and carrier operations could be affected adversely by conflicts between State and Federal officials over which routes to enforce.

IME expressed support for FMCSA's revised “streamlined approach,” stating that the new ordering approach was easy to understand and access. IME asserted, however, that the Agency either should use “preemptive authority” to compel State and Tribal Governments to update incorrect HM route information, or remove the designations from the NHMRR. Two State Government commenters (Texas and Commonwealth of Virginia Department of Transportation) and one individual citizen offered corrections to contact information, street names, or jurisdictional boundaries.

Regarding ATA's comments on updating the NHMRR process to conform to MAP-21, FMCSA published a Technical Amendments Rule that included provisions to address section 33013 of the statute. [79 FR 59450; October 2, 2014]. Among the amendments was a State reporting requirement to include the name of the agency responsible for HM highway route designations, and another to clarify that any State or Tribal-government-designated route is effective only after publication in the NHMRR. The NHMRR process now conforms to MAP-21.

FMCSA notes that in response to IME's comment on preemption, the Agency does not have preemptive authority to update State routing information. The Agency will continue notifying States concerning their obligations to submit correct and updated HM routing information. However, the applicable statute requires the Agency to update HM route listings in coordination with the States' submissions. A citizen who believes there are errors in these listings, such as the individual who commented on this notice, should contact the State entity responsible for designating and maintaining that State's listings.

The Agency has corrected the listing based on comments received from the State agencies with responsibility for HM route designations. The technical amendments referenced above should result in the maintenance of a current list of State and Tribal agencies and contacts that can provide current information on HM routes. Going forward, these entities can promote carrier and driver compliance by using the new ordering approach to provide clear route descriptions for each HM route. Specifically, State and Tribal entities should consider clearly defining each route, including start and endpoints (e.g., road intersections, mile marker numbers, geographic features, and boundary delineations). An example of clear start and endpoints might be for this Delaware route, “Interstate 495 from Interstate 95 [southwest of Wilmington, Delaware] to Interstate 95 [northeast of Wilmington, Delaware].” Entities also should consider providing county and city information for each route, which information is especially important for HM routes that cross jurisdictional boundaries (e.g., “North Prince of Wales Rd. from Big Salt Lake Rd. [Thorne Bay] north to the Labouchere Bay [Prince of Wales]” [AK]). Finally, HM route descriptions should include commonly used names for each road to avoid including duplicate descriptions in the NHMRR of the same route (e.g., “Loop 375/Americas Ave [El Paso] from Border Highway/Loop 375 to Interstate 10” [TX]).

IV. About the Tables in the National Hazardous Materials Route Registry

As stated above, the only comments FMCSA received on the new route ordering approach and table expressed support for these changes, and the NHMRR published today reflects the same route ordering approach and content presentation as the listing published July 14, 2014. Today's listing also includes additions, changes, and corrections received from four State authorities (Colorado, Ohio, Texas, and Virginia). Any remaining Quality Assurance (QA) issues are noted in the “FMCSA QA Comment” column in the NHMMR tables for the applicable jurisdictions.

Note that the following 14 States have no designated or restricted HM routes in the NHMRR: Connecticut, Hawaii, Kansas, Maine, Mississippi, Missouri, Nevada, New Hampshire, New Jersey, North Carolina, North Dakota, South Carolina, Vermont, and Wisconsin. Note, too, that the NHMRR does not include HM route designations and restrictions applicable to lands under the jurisdiction of Federal entities except for National Park Service (NPS) lands in Montana and South Dakota. The listing of HM routes on NPS lands is based on information readily available to FMCSA at the time of publication of this notice and may not be complete.

NPS regulations generally prohibit commercial motor vehicles and traffic in National Parks, including commercial shipments of HM (36 CFR 5.6). However, a park Superintendent may allow commercial motor vehicles in a National Park subject to permits issued by the Superintendent, and according to terms and conditions set in those permits. In the case of an HM shipment, if the Superintendent designates a route for HM shipments, the operator of the motor vehicle must apply for the permit under 36 CFR 1.6. The Superintendent will apply criteria in that provision to make a determination whether such a shipment is permissible, identify routes, and set other terms and conditions. Subject to obtaining the proper permit, current NPS regulations provide conditions for HM shipments along specified routes in Yellowstone (36 CFR 7.13) and Badlands (36 CFR 7.23) National Parks. NPS regulations expressly state the operator's obligation to comply with any State or Federal laws and regulations applicable to transportation of HM, including 49 CFR subtitle B (i.e., parts 100 to 1699). HM motor carriers and drivers should consult the Federal authorities with jurisdiction over Federal lands and activities on those lands for route information.

The NHMRR presents HM route information in up to three tables per State. The three table possibilities are: (1) “Restricted Routes” (prohibited routes for specified classes of HM shipments), (2) “Designated HRCQ/RAM Routes” (permissible routes tor transporting HRCQ quantities of Class 7 [radioactive] HM shipments), and (3) “Designated NRHM Routes” (permissible routes for transporting specified classes of non-radioactive HM shipments). To help users and stakeholders interested in HM transportation operations understand the route ordering approach and table presentation, FMCSA is repeating the description of the NHMRR elements in today's notice that was provided in the July 14, 2014, notice.

V. Route Ordering Approach

Each listing in the NHMRR includes codes to identify each route designation and each route restriction reported by the State. Designation codes identify the routes along which a driver can or must transport specified HM. Among the designation codes is one for “preferred routes,” which is defined in § 397.101(b)(1) ³ and applies to transporting “a highway route controlled quantity of Class 7 (radioactive) materials.” Restriction codes identify the routes along which a driver cannot transport specified HM shipments. Table 1 presents information on each restriction and designation code.

³ 49 CFR 397.101(b)(1) defines “preferred route” as, “an Interstate System highway for which an alternative route is not designated by a State routing agency; a State-designated route selected by a State routing agency pursuant to § 397.103; or both.”

Table 1—Restriction/Designation Key
Restrictions | Designations
0—ALL Hazardous Materials | A—ALL NRHM Hazardous Materials.
1—Class 1—Explosives | B—Class 1—Explosives.
2—Class 2—Gas | I—Poisonous Inhalation Hazard (PIH).
3—Class 3—Flammable | P—*Preferred Route* Class 7—Radioactive.
4—Class 4—Flammable Solid/Combustible
5—Class 5—Organic
6—Class 6—Poison
7—Class 7—Radioactive
8—Class 8—Corrosives
9—Class 9—Dangerous (Other)
i—Poisonous Inhalation Hazard (PIH)

Each HM table is sorted by the “Route Order” column to help drivers navigate designated NRHM and HRCQ/RAM routes more easily and avoid restricted routes. At a minimum, each entry in the “Route Order” column, includes a capital letter and may contain a combination of capital letters, Arabic numbers, dashes, and decimals that present a “route order character” identifying the ordering relationship of each HM route in the table. The following table presents the alphanumeric key for understanding route order characters.

Table 2—Route Order Character Naming Approach
Order level | Alphanumeric identifier | Route order character example
1 | A, B, C . . . Z, AA, AB | A
2 | 1, 2, 3 | A1
3 | A, B, C | A2A
4 | 1.0, 2.0, 3.0 | A3A-1.0
5 | A, B, C | A4A-1.0-A
6 | 1, 2, 3 | A5A-1.0-A1
7 | A, B, C | A6A-1.0-A1A
8 | 1.0, 2.0, 3.0 | A7A-1.0-A1A-1.0
9 | A, B, C | A8A-1.0-A1A-1.0-A
10 | 1, 2, 3 | A9A-1.0-A1A-1.0-A1

For the majority of states, the route order characters generally progress no further than the fourth order level. Alaska, California, Colorado, Illinois, Louisiana, Rhode Island, and Texas have route order characters beyond level four.

The route ordering approach is based on how distinct HM routes connect (each HM route is a separate row in the HM table). An HM route is a single road segment that does not connect (i.e., does not share a terminus) with any other HM route. In this instance, the route order character will be a capital letter only. The route order character for HM routes begins at the first order level with a capital letter identifier (A, B, C, etc.) for each distinct HM route. If there are more than 26 distinct HM routes in a State (as with California and Texas), the first order level for the 27th HM route will begin with two capital letters and continue in alphabetical sequence for each new HM route (AA, AB, AC, etc.).

For each HM table for a State, the route order character lettering runs directionally from Southwest to Northeast. For example, if the first letter of a route order character is “A,” the route is the first HM route encountered beginning from the Southwest section and moving across the State. Figure 1 displays an example of this relationship.

A “continuous route” is a sequence of distinct HM routes that connect at the termini. The individual HM routes will have the same first order level capital letter, with a second order level number added for each new, connecting HM route. In a continuous route, the second order level number increases by one from west to east for each connecting HM route (e.g., A1, A2, A3). Figure 2 displays an example of this relationship.

A “continuous route with junctions” is a sequence of distinct HM routes that connect and intersect or branch. A junction may either be an intersection where two HM routes cross; or a branch where a new HM route starts at the termini of the previous HM route or at a point along the HM route (see A2A or A3A in Figure 3). For a continuous route with junctions, the route order character begins alphabetically with a first order level capital letter, a second order level number, and at each junction, a third order level alphabetical letter. When an HM route (e.g., A1, A2) junctions, each new HM route will have a capital letter as the third element in the route order character and the second order level numeric character increases by one. In Figure 3, A1, A2, and A3 are continuous HM routes (i.e., connect at the termini) and A2A and A3A junction with HM routes A1 and A2 respectively.

If an HM route (e.g., A2A, A2B) junctions a second time, the sequence will include the fourth order level which begins with a hyphen and number followed by a decimal point and a zero; the second order level number increases by one. In Figure 4, the next junction from A2A is A3A-1.0.

If a road segment (e.g., A3A-1.0) junctions a third time the fifth order level begins with a hyphen and an alphabetical letter; the second order level number increases by one. In Figure 5, the next junction from HM route A3A-1.0 is A4A-1.0-A.

The pattern of increasing and alternating sequential numbers, letters, dashes, and decimals continues for each new junction from a road segment. For the three HM tables (Designated NRHM Routes, Designated HRCQ/RAM Routes, and Restricted HM Routes), the route ordering sequence begins anew, with the first HM route originating in the Southwest starting with the letter A. Figures 6, 7 and 8 illustrate the ordering approach for a subset of Designated NRHM Routes in Lorain, Ohio, Columbus, Ohio, and Denver, Colorado. High-resolution images of Figures 6, 7, and 8 also will be available for review in the docket.

The regulatory process that States must follow for route designations and limitations is provided in 49 CFR part 397. FMCSA continues to seek comment from the States of Alaska and California, and the District of Columbia about the route quality assurance issues identified in the tables as “FMCSA QA Comment.”

Issued on: April 21, 2015.
T.F. Scott Darling, III,
Chief Counsel.

BILLING CODE 4910-EX-P

VI. National Hazardous Materials Route Registry

[FR Doc. 2015-09701 Filed 4-28-15; 8:45 am]

BILLING CODE 4910-EX-C